DEPARTMENT OF JUSTICE

Notice of Lodging of Proposed Consent Decree Under the Comprehensive Environmental Response, Compensation, and Liability Act

On March 15, 2019, a proposed Consent Decree in United States v. Apogent Transition Corp., et al., Civil Action No. 2:19-8654, was filed with the United States District Court for New Jersey.

The proposed Consent Decree between the United States of America, Apogent Transition Corp., Beazer East, Inc., Cooper Industries, LLC, and Occidental Chemical Corporation resolves the claims between the parties relating to the cleanup of the Standard Chlorine Superfund Site in Kearny, New Jersey under the Comprehensive Environmental Response, Compensation, and Liability Act, 42 U.S.C. 9601, et seq. The proposed Consent Decree requires the settling defendants to undertake work to clean up the Standard Chlorine Site and pay a large portion of the United States' costs.

The publication of this notice opens a period for public comment on the proposed Consent Decree. Comments should be addressed to the Assistant Attorney General, Environment and Natural Resources Division, and should refer to United States v. Apogent Transition Corp., et al., Civil Action No. 2:19-8654, D.J. Ref. No. 90-11-3-11827. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: http://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $113.00 (25 cents per page reproduction cost) payable to the United States Treasury.

Robert Maher,
Assistant Chief, Environmental Enforcement Section, Environment and Natural Resources Division.

[FR Doc. 2019-05333 Filed 3-20-19; 8:45 am]

BILLING CODE 4410-15-P